DEPARTMENT OF COMMERCE

National Oceanic and Atmospheric Administration

[Docket No.: 00061680-6107-12]

NOAA Climate Program for FY 2007

AGENCY: Climate Program Office, Oceanic and Atmospheric Research, Nastional Oceanic and Atmospheric Administration, Department of Commerce.

ACTION: Notice of funding availability.

SUMMARY: The National Oceanic and Atmospheric Administration (NOAA) Climate Program publishes this notice to announce the availability of funding for proposals that address the NOAA Climate Program's overall goal, which is to better understand climate variability and change to enhance society's ability to plan and respond. The NOAA Climate Program represents a contribution to national and international programs designed to improve our ability to observe, understand, predict, and respond to changes in the global environment. The Program builds on NOAA's mission requirements and long-standing capabilities in global change research and prediction. The Program is a key contributing element of the U.S. Climate Change Science Program (CCSP) that is coordinated by the interagency Committee on Environmental and Natural Resources (CENR). NOAA's Climate Program is designed to complement other agencies' contributions to that national effort.

DATES:

Submission Dates and Times (for ALL Competitions)

Letter of Intent Due Date: May 30, 2006. by 5 p.m. eastern time.

Application Due Date: July 25, 2006 by 5 p.m. eastern time.

Anticipated Award Date: May 1, 2007

ADDRESSES: Letters of Intent are encouraged to be submitted by e-mail to the identified NOAA program element's program manager.

NOAA encourages the submission of applications through Grants.gov. If the applicant does not have access to electronic submission, please mail applications to: CPO Grants Manager, Diane Brown, NOAA/CPO, 1100 Wayne Avenue, Suite 1210, Silver Spring, MD 20910-5603, Facsimile transmissions of full proposals will not be accepted. To apply for this NOAA federal funding opportunity, please go to http://www.grants.gov and use the following funding opportunity OAR-CPO-2007-2000636.

FOR FURTHER INFORMATION CONTACT: Please visit the CPO Web site for further information http://www.climate.noaa.gov. All technical questions should be addressed to the identified NOAA program element's program manager. For Administrative questions: Please contact the CPO Grants Manager, Diane Brown, NOAA/CPO, 1100 Wayne Avenue, Suite 1210, Silver Spring, MD 20910-5603, by phone at 301-427-2357, or e-mail: cpogrants@noaa.gov.

SUPPLEMENTARY INFORMATION: Applicants must comply with all requirements contained in the Full Funding Opportunity announcement available on www.Grants.gov or from CPO Grants Manager (see FOR FURTHER INFORMATION CONTACT section above).

Electronic Access

Applicants should read the full text of the Full Funding Opportunity announcement available at http://www.grants.gov. It can also be accessed at the CPO Web site, http://www.climate.noaa.gov, or the central NOAA site, http://www.grants.gov/.ofa.noaa.gov/~amd/SOLINDEX.HTML.

Program Information

The overall goal of the NOAA Climate Program is to better understand climate variability and change to enhance society's ability to plan and respond. The Program aims to improve scientific understanding of the earth's past and present climate variability and change to improve climate forecast skill, increase the credibility of climate change projections, and the use of climate information for policy and decision makers and resource managers. The broad objective of NOAA's Climate Program is to establish a national information service based on reliable assessments and quantitative predictions of changing global climate. Once established, this service will help NOAA provide high-quality predictions and assessments to the public and private sectors, other federal and state agencies, and the international community. The near-term objective is to provide reliable predictions of global climate changes, both natural and human-induced, and their associated societal impacts on time scales ranging from seasons to a century or more. The ten competitions that are accepting proposals are: The Atmospheric Composition and Climate Program; the Climate Change Data and Detection Program; the Climate Dynamics and Experimental Prediction Program; the Climate Prediction Program for the Americas; the Climate Variability and Predictability Program; the Global Carbon Cycle Program; the Regional Integrated Sciences and Assessments Program; the Sector Applications and Research Program; the Scientific Data Stewardship Program; and the Transition of Research Applications to Climate Services Program A full description of the scope of the proposal for each of the ten competitions is contained in the full funding opportunity announcement.

Funding Availability

Please be advised that actual funding levels will depend upon the final FY 2007 budget appropriations. In FY 2006, approximately $6M in first year funding was available for 54 new awards; similar funds and number of awards are anticipated in FY 2007. Total Anticipated Federal Funding for FY 2007 is $6M in first year funding for 40-60 number of awards. Federal Funding for FY 2008 may be used in part to fund some awards submitted under this competition. Current plans assume that 100% of the total resources provided through this announcement will support extramural efforts, particularly those involving the broad academic community. Past or current grantees funded under this announcement are eligible to apply for a new award that builds on previous activities or areas of research not covered in the previous award. Current grantees should not request supplementary funding for ongoing research through this announcement. We anticipate that the annual cost of most funded projects will fall between $50,000 and $200,000 per year. The exact amount of funds that may be awarded will be determined in pre-award negotiations between the applicant and NOAA representatives. Neither NOAA nor the Department of Commerce is responsible for proposal preparation costs if this program is not funded for whatever reason. Publication of this announcement does not oblige NOAA to award any specific project or to obligate any available funds.

Statutory Authority: 49 U.S.C. 44720(b), 33 U.S.C. 883d, 15 U.S.C. 2904, 15 U.S.C. 2931-2934. Catalog of Federal Domestic Assistance (CFDA) Number: CFDA No. 11.431, Climate and Atmospheric Research.

Eligibility

Eligible applicants are institutions of higher education, other nonprofits, commercial organizations, international organizations, and State, local, and Indian tribal governments. Federal agencies or institutions are not eligible to receive Federal assistance under this notice.

Cost Sharing Requirements

Cost Sharing is only required in one program element competition which is the Transition of Research Applications to Climate Services (TRACS) where the Cost Share Percentage must be at least 5% of the total costs. The other nine Competitions have no cost sharing requirement.

Letters of Intent (LOI)

The purpose of the LOI process is to provide information to potential applicants on the relevance of their proposed project to the Climate program and the likelihood of it being funded in advance of preparing a full proposal. While it is in the best interest of the applicants and their institutions to submit an LOI, it is not a requirement; applicants who do not submit an LOI are still allowed to submit a full proposal. Full proposals will be encouraged only for LOIs deemed relevant.

A panel of program managers will review each LOI to determine whether the LOI is responsive to the program goals as advertised in this notice and will provide an e-mail or letter response.

Selection Procedures

NOAA published an omnibus notice announcing the availability of grant funds for projects for Fiscal Year 2006 in the Federal Register on June 30, 2005 (70 FR 37766), and its second on December 20, 2005 (70 FR 76253). The evaluation criteria and selection procedures contained in those notices are applicable to this solicitation. For a copy of these omnibus notices, please go to: http://www.grants.gov or http://www.ago.noaa.gov/grants/funding.shtml.

Limitation of Liability

Funding for the programs listed in this notice are contingent upon the availability of FY 2006 appropriations. In no event will NOAA or the Department of Commerce be responsible for proposal preparation costs if these programs fail to receive funding or are cancelled because of other agency priorities. Publication of this announcement does not oblige NOAA to award any specific project or to obligate any available funds.

National Environmental Policy Act (NEPA)

NOAA must analyze the potential environmental impacts, as required by the National Environmental Policy Act (NEPA), for applicant projects or proposals that are seeking NOAA federal funding opportunities. Detailed information on NOAA compliance with NEPA can be found at the following NOAA NEPA Web site: http://www.nepa.noaa.gov/, including our NOAA Administrative Order 216-6 for NEPA, http://www.nepa.noaa.gov/NA0216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial of not selecting an application. In some caes if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements

The Department of Commerce Pre-Award Notification Requirements for Grants and Cooperative Agreements contained in the Federal Register notice of December 30, 2004 (69 FR 78389) are applicable to this solicitation.

Paperwork Reduction Act

This document contains collection-of-information requirements subject to the Paperwork Reduction Act (PRA). The use of Standard Forms 424 and 424A, 424B, SF-LLL, and CD-346 have been approved by OMB under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Intergovernmental Review

Applications under this program are not subject to Executive Order 12372, Intergovernmental Review of federal programs.

Administrative Procedure Act/Regulatory Flexibility Act

Prior notice and an opportunity for public comments are not required by the Administrative Procedure Act or any other law for this rule concerning grants, benefits, and contracts (5 U.S.C. 553(a). Because notice and opportunity for comment are not required pursuant to 5 U.S.C. 553 or any other law, the analytical requirements of the Regulatory Flexibility Act (5 U.S.C. 601 et seq.) are inapplicable. Therefore, a regulatory flexibility analysis has not been prepared.

Mark Brown,
Chief, Financial Officer, OAR, National Oceanic and Atmospheric Administration.

[FR Doc. 06-4104 Filed 5-1-06; 8:45am]

BILLING CODE 3510-KD-M